DEPARTMENT OF INTERIOR

National Park Service

General Management Plan, Draft Environmental Impact Statement, Saguaro National Park, AZ

AGENCY: National Park Service, Department of the Interior.

ACTION: Notice of availability of Draft General Management Plan/Environmental Impact Statement, Saguaro National Park.

SUMMARY: Pursuant to the National Environmental Policy Act of 1969, 42 U.S.C. 4332(2)(C), the National Park Service announces the availability of a Draft Environmental Impact Statement and General Management Plan for Saguaro National Park, Arizona.

DATES: The Draft Environmental Impact Statement and General Management Plan will remain available for public review for 60 days after publication of this notice by the Environmental Protection Agency. Public meetings will be announced in the local media.

ADDRESSES: Information will be available for public review and comment online at http://parkplanning.nps.gov/parkHome.cfm?parkId=96. Copies of the Draft Environmental Impact Statement and General Management Plan are available from the Superintendent Sarah Craighead, Saguaro National Park, Arizona, 3693 South Old Spanish Trail, Tucson, AZ 85730-5601, (520) 733-5101. Public reading copies of the document will be available for review at the following locations:

Office of the Superintendent, Saguaro National Park, 3693 South Old Spanish Trail, Tucson, AZ 85730-5601.

Planning and Environmental Quality, Intermountain Regional Office—Denver, National Park Service, 12795 W. Alameda Parkway, Lakewood, CO 80225, Telephone: (303) 987-6671.

Office of Public Affairs, National Park Service, Department of the Interior, 18th and C Streets, NW., Washington, DC 20240, Telephone: (202) 208-6843.

FOR FURTHER INFORMATION CONTACT: Superintendent Sarah Craighead, Saguaro National Park, at the above address and telephone number.

SUPPLEMENTARY INFORMATION: If you wish to comment, you may submit your comments by any one of several methods. You may mail comments to Superintendent Sarah Craighead, Draft General Management Plan/Environmental Impact Statement, Saguaro National Park, Arizona, 3693 South Old Spanish Trail, Tucson, AZ 85730-5601. You may also comment via the Internet at http://parkplanning.nps.gov/. Please include your name and return address in your Internet message. If you do not receive a confirmation from the system that we have received your Internet message, contact us directly by calling Superintendent Sarah Craighead at 520-733-5107. Finally, you may hand-deliver comments to the Saguaro National Park visitor center or the Intermountain Region Office—Denver, 12795 W. Alameda Parkway, Lakewood, CO 80225.

Before including your address, phone number, e-mail address, or other personal identifying information in your comment, you should be aware that your entire comment—including your personal identifying information—may be made publicly available at any time. While you can ask us in your comment to withhold your personal identifying information from public review, we cannot guarantee that we will be able to do so.

This general management plan will guide the management of Saguaro National Park for the next 15 to 20 years. The general management plan considers three alternatives—a no-action and two action alternatives, including the National Park Service preferred alternative. Alternative 1, the no-action alternative, is a continuation of current management trends and serves as a basis of comparison with the action alternatives. Alternative 2, the preferred alternative, would emphasize protecting ecological processes and biological diversity by connecting wildlife and plan habitats with habitat corridors. The concept was developed to help protect biological and ecological diversity from being compromised by habitat fragmentation. Alternative 3 would emphasize providing a wider range of opportunities for visitors compatible with the preservation of park resources and wilderness characteristics. The concept was developed because the public wanted the park to expand programs and opportunities for a growing diverse visitor population.

The draft environmental impact statement assesses impacts to cultural resources (archeological resources, historic structures, cultural landscapes, ethnographic resources, and museum collections); natural resources (soils, soundscape, vegetation, wildlife, and threatened, endangered, and candidate species and species of special concern); visitor understanding and experience; remoteness; the park's socio-economic environment; and park operations.

Dated: July 19, 2007.
Michael D. Snyder,
Director, Intermountain Region, National Park Service.

[FR Doc. 07-3742 Filed 7-31-07; 8:45 am]

BILLING CODE 4312-52-M